DEPARTMENT OF COMMERCE

National Oceanic and Atmospheric Administration

RIN 0648-XA599

Marine Mammals; File No. 16094

AGENCY: National Marine Fisheries Service (NMFS), National Oceanic and Atmospheric Administration (NOAA), Commerce.

ACTION: Notice; receipt of application for permit amendment.

SUMMARY: Notice is hereby given that the Alaska Department of Fish and Game, Juneau, AK, has applied for an amendment to Scientific Research Permit No. 16094.

DATES: Written, telefaxed, or email comments must be received on or before May 2, 2012.

ADDRESSES: The application and related documents are available for review by selecting “Records Open for Public Comment” from the Features box on the Applications and Permits for Protected Species home page, https://apps.nmfs.noaa.gov, and then selecting File No. 16094 from the list of available applications.

These documents are also available upon written request or by appointment in the following offices:

Permits and Conservation Division, Office of Protected Resources, NMFS, 1315 East-West Highway, Room 13705, Silver Spring, MD 20910; phone (301)427-8401; fax (301)713-0376; and

Alaska Region, NMFS, P.O. Box 21668, Juneau, AK 99802-1668; phone (907)586-7221; fax (907)586-7249.

Written comments on this application should be submitted to the Chief, Permits and Conservation Division, at the address listed above. Comments may also be submitted by facsimile to (301)713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Tammy Adams or Joselyd Garcia-Reyes, (301)427-8401.

SUPPLEMENTARY INFORMATION: The subject amendment to Permit No. 16094 is requested under the authority of the Marine Mammal Protection Act of 1972, as amended (16 U.S.C. 1361 et seq.), and the regulations governing the taking and importing of marine mammals (50 CFR part 216).

Permit No. 16094, issued on September 20, 2011 (76 FR 61345), authorizes the permit holder to take harbor seals (Phoca vitulina) during aerial surveys for population census and radio tracking; ground surveys for photo-identification, counts and behavioral observations; vessel approaches of animals equipped with telemetry equipment; vessel surveys for radio tracking; and capture by entanglement in a net in the water or by hoop net or dip net on land. Captured animals will: be restrained (chemical or physical); be weighed and measured; have biological samples collected (blood, milk (lactating females), blubber, skin, muscle, hair, mucus membrane swabs, stomach lavage, tooth and vibrissae); be administered deuterated water; have measurement of blubber via ultrasound; be marked with flipper identification tags; and have internal (PIT tags) or external scientific instruments attached. Tissue samples will be collected from subsistence harvested animals and other mortalities and some samples will be exported to Canada for analysis. The permit also includes incidental harassment and accidental mortality of harbor porpoises (Phocoena phocoena) during seal capture activities. The permit is valid through December 31, 2016.

The permit holder is requesting the permit be amended to include authorization for takes related to a whisker growth and replacement study aimed at improving utility of dietary stable isotope information derived from whiskers. The amendment would increase the number of whiskers that may be collected from seals captured during field work from 1 per animal to 2 per animal, and add photogrammetry for these seals. There would be no increase in the numbers of seals captured or sampled in the wild. The amendment would also add a non-invasive study using captive seals held at the Alaska SeaLife Center in Seward, AK. For that study, researchers would use hair dye to mark the seals' whiskers and photo document whisker growth over time.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: March 27, 2012.
Tammy C. Adams,
Acting Chief, Permits and Conservation Division, Office of Protected Resources, National Marine Fisheries Service.

[FR Doc. 2012-7847 Filed 3-30-12; 8:45 am]

BILLING CODE 3510-22-P